DEPARTMENT OF THE INTERIOR

Fish and Wildlife Service

Record of Decision Concerning Grizzly Bear Recovery in the Bitterroot Ecosystem

AGENCY: Fish and Wildlife Service, Interior.

ACTION: Notice.

SUMMARY: Pursuant to the National Environmental Policy Act (NEPA), the U.S. Fish and Wildlife Service (Service) issues this Record of Decision (ROD) and Statement of Findings upon consideration of the Final Environmental Impact Statement (FEIS) for the Recovery of the Grizzly Bear in the Bitterroot Ecosystem.

The Service has considered alternatives and evaluated their impacts for the recovery of the grizzly bear (Ursus arctos horribilis) in the Bitterroot Ecosystem of east central Idaho and western Montana as presented in the FEIS. We have solicited public and agency comments and considered these comments in the NEPA process and in making our decision. Based on that evaluation and review, the Service has decided to implement the Proposed Action Alternative as described in the FEIS. This determination was based on a thorough analysis of environmental, social, economic, and other considerations.

ADDRESSES: Additional copies of this ROD may be requested from Dr. Christopher Servheen, Grizzly Bear Recovery Coordinator, Bitterroot Grizzly Bear FEIS, P.O. Box 5127, Missoula, Montana 59806, or e-mail “fw6_bitterroot@fws.gov.” The document also is available for viewing and downloading at “http://www.r6.fws.gov/endspp/grizzly/.”

FOR FURTHER INFORMATION CONTACT: Dr. Christopher Servheen, Grizzly Bear Recovery Coordinator, at the above address, or telephone (406) 243-4903.

SUPPLEMENTARY INFORMATION:

Background

The intent of this action is to recover the threatened grizzly bear in the Bitterroot Ecosystem. Grizzly bears are a part of America's rich wildlife heritage and once ranged throughout most of the western United States. However, distribution and population levels of this species have been diminished by excessive human-caused mortality and loss of habitat. Today, only 1,000 to 1,100 grizzly bears remain in a few populations in Montana (Northern Continental Divide, Yellowstone, and Cabinet-Yaak Ecosystems), Idaho (Yellowstone, Cabinet-Yaak, and Selkirk Ecosystems), Wyoming (Yellowstone Ecosystem), and Washington (Selkirk and North Cascades Ecosystems). Wildlife species, like grizzly bear, are most vulnerable when confined to small portions of their historical range and limited to a few, small populations. Expansion of the range of the species will increase the number of bears within the lower 48 United States, increase habitat size and extent, and further conservation of the species.

The Bitterroot Ecosystem is one of the largest contiguous blocks of Federal land remaining in the lower 48 United States. The core of the ecosystem contains two wilderness areas which comprise the largest block of wilderness habitat in the Rocky Mountains south of Canada. Of all remaining unoccupied grizzly bear habitat in the lower 48 States, this area in the Bitterroot Mountains has the best potential for grizzly bear recovery, primarily due to the large wilderness area. As such, the Bitterroot Ecosystem offers excellent potential to support a healthy population of grizzly bears and to boost long-term survival and recovery prospects for this species in the contiguous United States.

The Selected Alternative

The Selected Alternative is the Proposed Action as described in the FEIS. The purpose of this alternative is to restore grizzly bears to central Idaho, designate this population as “nonessential experimental,” and implement provisions within sections 4 and 10(j) of the Endangered Species Act (ESA) to conduct special management to address local concerns. A Citizen Management Committee (CMC) will be tasked with management implementation responsibilities for the Bitterroot grizzly bear experimental population. The “experimental population” designation gives the Service the flexibility to promulgate a special rule that applies only to the reintroduced population. Protections established by the special rule can thus be tailored to specific areas and specific local conditions. Because these reintroduced grizzly bears will be classified as an experimental population, the Service can institute management practices that address local concerns about excessive government regulation on private lands, uncontrolled livestock depredation, excessive big game predation, and lack of State government and local citizen involvement in the program. The Service considers this a “nonessential” experimental population because several additional populations exist within the 48 conterminous United States and, as such, its loss would not be likely to appreciably reduce the likelihood of the survival of the species in the wild.

The Bitterroot Grizzly Bear Experimental Population Area (Experimental Population Area), which includes most of central Idaho and part of western Montana, will be established by the Service under authority of section 10(j) of the ESA. The Experimental Population Area encompasses approximately 25,140 square miles. This will include the area bounded by U.S. Highway 93 from its junction with the Bitterroot River near Missoula, Montana, to Challis, Idaho; Idaho Highway 75 from Challis to Stanley, Idaho; Idaho Highway 21 from Stanley to Lowman, Idaho; Idaho Highway 17 from Lowman to Banks, Idaho; Idaho Highway 55 from Banks to New Meadows, Idaho; U.S. Highway 95 from New Meadows to Coeur d'Alene, Idaho; Interstate 90 from Coeur d'Alene, Idaho, to its junction with the Clark Fork River near St. Regis, Montana; the Clark Fork River from its junction with Interstate 90 near St. Regis, to its confluence with the Bitterroot River near Missoula, Montana; and the Bitterroot River from its confluence with the Clark Fork River to its junction with U.S. Highway 93, near Missoula, Montana. The best scientific evidence available indicates there are no grizzly bears in the Experimental Population Area at this time. Ongoing grizzly bear monitoring efforts will continue.

The Service will designate a Bitterroot Grizzly Bear Recovery Area (Recovery Area) to consist of the Selway-Bitterroot Wilderness and the Frank Church-River of No Return Wilderness. The Recovery Area, a portion of the Experimental Population Area, encompasses approximately 5,785 square miles. The Recovery Area is the area of recovery emphasis. This means grizzly bear management decisions in the Recovery Area will favor bear recovery, allowing this area to serve as core habitat for survival, reproduction, and dispersal of the recovering population.

During the first few months of implementation a CMC will be formed. The CMC will be tasked with management implementation responsibilities by the Secretary of the Department of the Interior, in consultation with the governors of Idaho and Montana, for the Bitterroot grizzly bear nonessential experimental population. The CMC will be comprised of local citizens and agency representatives from Federal and State agencies and the Nez Perce Tribe. Two scientific advisors will be appointed by the Secretary to the CMC as non-voting members, to attend all meetings and provide scientific expertise to the CMC. The CMC will be responsible for recommending changes in land-use standards and guidelines as necessary for grizzly bear management. Recommendations made by the CMC to land and wildlife management agencies will be subject to review and final decisions on implementation will be made by the responsible agency. All decisions of the CMC including components of its management plans must lead toward recovery of the grizzly bear and minimize social and economic impacts to the extent practicable within the context of the existing recovery goals for the species. Grizzly bear management will allow for resource extraction activities to continue.

Subject to availability of funding, grizzly bears will be reintroduced into the Selway-Bitterroot Wilderness portion of the Recovery Area during the second year of implementation. Specific reintroduction sites will be identified by the land and wildlife management agencies and the CMC. The Service, in coordination with the Forest Service, States of Idaho and Montana, Nez Perce Tribe, and the CMC will release a minimum of 25 grizzly bears into the Recovery Area over a period of 5 years. In order to increase the probability of survival of the initial bears, we will consider accelerating the release of the bears in the first few years, as appropriate, and in coordination with the CMC. The origin of bears for placement will include areas more than 10 miles beyond existing recovery zone lines in the Yellowstone and Northern Continental Divide Ecosystems, and British Columbia and Alaska (nonsalmon-eating bears), as appropriate. Bears will be removed from source populations only if there is no significant impact to population health or recovery. This release will be no sooner than 1 year after initiation of formation of the CMC and initiation of sanitation and information efforts.

Bears moving outside the Recovery Area will be accommodated through management provisions in a final Special Rule and through recommendations on land and wildlife management plans and policies developed by the CMC, unless potential conflicts are significant and cannot be corrected. The term “accommodate” means grizzly bears that move outside the Recovery Area onto public land in the Experimental Population Area will not be disturbed unless they demonstrate a real threat to human safety or livestock.

People can continue to kill grizzly bears in self-defense or in defense of others, provided that such taking is reported within 24 hours to appropriate authorities. Grizzly bears will be managed according to existing grizzly bear guidelines, except in the case of grizzly bears on private land that are killing livestock and could not be captured by management authorities. In such cases, landowners will be issued a permit by the Service and the Idaho Fish and Game Department, or the Montana Department of Fish, Wildlife, and Parks, or appropriate Tribal authorities. Following issuance of a permit by the Service and the Idaho Fish and Game Department, or the Montana Department of Fish, Wildlife, and Parks, or appropriate Tribal authorities, the permittee will be allowed to harass, through noninjurious means, a grizzly bear attacking livestock (cattle, sheep, horses, and mules) or bees. A livestock owner may be issued a permit to kill a grizzly bear killing or pursuing livestock on private lands if it has not been possible to capture such a bear or deter depredations through agency efforts. If significant conflicts occur between grizzly bears and livestock within the Experimental Population Area outside of the Recovery Area, these can be resolved in favor of the livestock by agencies capturing or eliminating the bear, depending on the circumstances. There will be no Federal compensation program for livestock losses, but compensation from existing private funding sources will be encouraged.

It is anticipated that ongoing animal damage control activities will not be affected by grizzly bear recovery. Animal control toxicants lethal to bears are not used on public lands within the Recovery Area and the Experimental Population Area. Any conflicts or mortalities associated with these activities will result in a review by the CMC, and any necessary changes will be recommended by the CMC.

The selected alternative will be implemented as an overlapping staged process. The initial stage will be formation of the CMC. The second stage will be simultaneous with CMC formation and will include efforts to decrease the availability of human-related foods to wildlife by increasing the availability of bear-proof garbage storage containers in campgrounds and facilities in and around the Recovery Area. The sanitation program will include efforts by the Forest Service, permittees, and private landowners in and around the Recovery Area. The second stage also will include an enhanced information effort to inform people who recreate in the area how to minimize their chances of encountering bears. Public education efforts will include—presentations at schools in and around the Recovery Area to teach children about grizzly bears and how to recreate safely in grizzly bear country; presentations to all civic clubs and interested organizations about grizzly bears and how to recreate safely in grizzly bear country; and placing of informative signs at all trail heads in and around the Recovery Area. The third stage will be placement of bears, which will begin after the CMC has been established and the sanitation and information programs have begun.

The selected alternative represents the environmentally preferable alternative which balances the biological needs of recovering grizzly bears and public concerns about the potential management of non-experimental grizzly bear populations under the ESA. Establishment of the nonessential experimental population as proposed under this alternative will require promulgation of a final special rule. This alternative offers the most efficient and realistic plan to result in the recovery of grizzly bears in the Bitterroot Ecosystem, given concerns of local residents over grizzly bear restoration. The nonessential experimental population designation under section 10(j) of the ESA will allow for flexible and responsive management to minimize the potential negative impacts of grizzly bears to private property, big game populations, other listed or sensitive species, and other natural resource programs on private and public lands. The CMC will be tasked with management responsibilities for this grizzly bear population to address local concerns.

In order to implement the Proposed Action Alternative in the FEIS, the Service is required to publish a regulation to establish a nonessential experimental population of grizzly bears. When such a special rule establishing the experimental population is promulgated, the Service will administer the regulation in the manner described in the FEIS and this ROD. This will require cooperation with and by other agencies within the Department of the Interior, including but not limited to the Bureau of Land Management and the Bureau of Indian Affairs, and the Department of Agriculture, including but not limited to the Forest Service and Wildlife Services. The Service also will cooperate with the States of Wyoming, Idaho, and Montana, the Nez Perce and other potentially affected Indian Tribes, and various other individuals within the United States and Canadian governments.

Implementation of this decision is contingent upon the Service receiving adequate appropriations, so that the current level of funding for Service activities in other grizzly bear recovery areas will not be compromised.

Other Alternatives Considered

Other than the proposed action, the major alternatives considered and evaluated were:

Alternative 1A. Restoration of Grizzly Bears as a Nonessential Experimental Population with Service Management Alternative. Grizzly bears would be reintroduced to central Idaho and designated as a nonessential experimental population. The Service would manage this grizzly bear population under provisions of section 10(j) of the ESA to address local concerns. The nonessential experimental designation would allow flexibility in the Service management of the population such that negative impacts to private property, big game populations, other listed species, and other natural resource programs on private and public lands could be minimized. However, this alternative does not address one of the most substantive issues from public comment on the proposal—the issue of necessity for local control and input into resource management decisions affecting local citizens. Given the contentious nature of this proposal, and the local opposition to Federal management actions, the Service believes the probability of successfully recovering grizzly bears in the Bitterroot Ecosystem will be maximized by actively involving local citizens in management of the restored population.

Alternative 2. The No Action Alternative—Natural Recovery. This alternative describes the implications of current management activities, assuming these will continue over the next 50+ years. A description of this course of no action provides a reference point to compare and evaluate environmental consequences associated with other alternative plans. The overall environmental effects of taking no action would likely result in no recovery of grizzly bears in the Bitterroot Ecosystem, although it may result in grizzly bear repopulation in 100-160 years. Given existing information, it is very unlikely that grizzly bears would disperse from currently occupied areas and successfully repopulate the Bitterroot Ecosystem naturally. If grizzly bears did disperse to the Bitterroot Ecosystem they would be protected as threatened under the ESA. This would result in less management flexibility for the Service to resolve local concerns about land use restrictions on public land, predation on big game herds and potential loss of hunting opportunity, and livestock depredation.

Alternative 3. The No Grizzly Bear Alternative. This alternative would prevent grizzly bear recovery in the Bitterroot Ecosystem by changing current laws and allowing unrestricted take of grizzly bears by the public. This alternative would prohibit restoration of the currently missing native grizzly bear from the largest block of wilderness habitat in the Rocky Mountains south of Canada. Under this alternative, the potential contribution of an additional population of grizzly bears to the recovery effort in the conterminous United States would never be realized. Also, none of the economic and social benefits or costs associated with the presence of a restored grizzly bear population would occur. This alternative would require new legislation by Congress to change the ESA, and legislation by the States of Idaho and Montana to change State laws that protect grizzly bears in the Bitterroot Ecosystem.

Alternative 4. Restoration of Grizzly Bears as a Threatened Population with Full Protection of the ESA and Habitat Restoration Alternative. This alternative would achieve recovery through reintroduction of a threatened population of grizzly bears and extensive habitat protection and enhancement to promote natural recovery. Primary grizzly bear management responsibility would reside with the Service and include active participation by the States and the Nez Perce Tribe. A 10-member Scientific Committee would be established to perform additional research, implement reintroduction of bears, and monitor results of the program. Certain actions in this alternative, such as the road management plan to obliterate a large number of roads to achieve a road density of 0.25 mile/square mile and the elimination of timber harvest in all roadless areas, are not necessary actions to achieve grizzly bear recovery, and thus decrease the efficiency with which this alternative could achieve recovery in the Bitterroot Ecosystem. Also, reintroduction of a threatened population would allow less management flexibility to address local concerns about livestock depredation, restrictions to natural resource programs on public and private lands, and impacts to other wildlife species. Based on numerous public comments on this proposal, the Service believes the probability of successfully recovering grizzly bears in the Bitterroot Ecosystem will be maximized by actively involving local citizens in management of the restored population

Alternative 4A. Restoration of Grizzly Bears as a Threatened Population with Full Protection of the ESA and Service Management Alternative. This alternative would achieve recovery through reintroduction of a threatened population of grizzly bears with the Service managing recovery of the population. Other Federal and State agencies and the Nez Perce Tribe would assist the Service with management activities. A 10-member Scientific Advisory Committee would be appointed to make recommendations regarding research needs and strategies for reintroduction and monitoring of grizzly bears. Reintroduction of a threatened population would allow less management flexibility to address local concerns about livestock depredation, restrictions to natural resource programs on public and private lands, and impacts to other wildlife species.

Minimization of Impacts

Possible project impacts and public concerns, and methods to be used to mitigate those impacts and concerns were addressed as follows:

(1) Lack of local public involvement in the management of the reintroduced species was addressed by development of the CMC concept;

(2) Lack of sufficient scientific input was addressed by adding two scientific advisors to the CMC to be nominated by the Universities of Idaho and Montana, and requiring the CMC to use the best available science in decision-making;

(3) Public safety on private lands in the Bitterroot Valley, Montana, was addressed by making these private lands an exclusion zone where any grizzly bear would be immediately captured and relocated into the wilderness or destroyed if necessary;

(4) Possibility of political interference from the Secretary of the Department of the Interior on the CMC was addressed by establishing a scientific review panel that would be formed if the Service representative determined (after consultation with the CMC) that the CMC was not making decisions that would lead to recovery;

(5) Concern about removal of bears from existing threatened populations was addressed by clarifying that bears will not be removed from within the United States grizzly bear recovery zones or within 10 miles of bear recovery zones so as to not remove any bears from these core areas for any listed population;

(6) Concern that the CMC would make land management decisions on public lands was addressed by clarifying that the CMC will not make land management decisions on public lands, but may make only recommendations about changes in public land management or public hunting seasons, and any changes regarding these issues would have to be made with public involvement by the land management or State fish and game agencies after complying with NEPA or other appropriate laws;

(7) Adequacy of the habitat in the Bitterroot Ecosystem was addressed by adding an appendix report from the Craighead Wildlife-Wildlands Institute documenting the abundance and distribution of grizzly bear food groups in the Bitterroot Ecosystem, and by a habitat-based population assessment by Dr. Mark Boyce of the University of Alberta detailing how many grizzly bears can be expected to live in the Bitterroot Ecosystem;

(8) Lack of a corridor between the Bitterroot Ecosystem and areas where grizzlies presently exist was addressed by noting that the linkage zone evaluation task in the recovery plan will be completed in 2000, and will identify where possible linkage zones exist and what can be done to maintain the opportunities for such linkage in the future; and,

(9) Impacts to listed steelhead and salmon species will be minimized through Service adherence to the conservation recommendations of the National Marine Fisheries Service Biological Opinion for this project dated May 1998.

Significant New Issues Raised from Comments Received on the FEIS

The Service appreciates all comments on the FEIS, and the high level of public interest and participation throughout the NEPA process for this proposal. The Service received a number of comments during the 30-day time period following publication of the notice of availability of the FEIS. Approximately 14,800 total comments were received from individuals, organizations, and government agencies, which included 800 letters and 14,000 form letters/postcards. The Service reviewed all public comments prior to developing this ROD. The majority of comments received were directed at registering opposition or support to the reintroduction of grizzly bears into the Bitterroot Ecosystem. Many comments were essentially votes which contained a statement of opinion, and were not substantive input to environmental issues or alternatives to correct or improve the content of the FEIS and ROD.

The majority of substantive issues raised in the FEIS comments were identical or similar to issues raised during three previous public comment periods for this proposal. These issues have been addressed by the Service throughout the NEPA process in the following documents, incorporated here by reference—“Final Environmental Impact Statement on Grizzly Bear Recovery in the Bitterroot Ecosystem” (U.S. Fish and Wildlife Service 2000); “Summary of Public Comments on the Draft Environmental Impact Statement for Grizzly Bear Recovery in the Bitterroot Ecosystem” (U.S. Fish and Wildlife Service 1998); “Draft Environmental Impact Statement on Grizzly Bear Recovery in the Bitterroot Ecosystem” (U.S. Fish and Wildlife Service 1997); “Summary of Public Comments on the Scoping of Issues and Alternatives for Grizzly Bear Recovery in the Bitterroot Ecosystem” (U.S. Fish and Wildlife Service 1995); “Summary of Public Comments on the Notice of Intent to Prepare an Environmental Impact Statement for the Reintroduction of Grizzly Bears to the Bitterroot Ecosystem” (U.S. Fish and Wildlife Service 1995).

A few new issues were raised during the 30-day time period following the notice of availability of the FEIS. Response to these new issues are listed below.

Issue 1—Several commentors suggested that we accelerate reintroduction with more than 5 bears per year and use more than 25 total bears if more bears are available. Other comments suggested using bears from Alaska.

Response—The Service recognizes that accelerating reintroduction would foster recovery of the grizzly by increasing their probability of survival in the first few years, and we will consider increasing the number of bears released in the first few years, as appropriate. We will coordinate any such decision with the CMC. The Service also will consider the possibility of reintroducing interior Rocky Mountain (non-salmon eating) bears from Alaska as appropriate, and will coordinate any such decision with the CMC.

Issue 2—Some commentors asked why we did not consider essential experimental status in the range of alternatives in the FEIS.

Response—The term “essential” experimental population means an experimental population whose loss would be likely to appreciably reduce the likelihood of the survival of the species in the wild. The Service has always considered a reintroduced Bitterroot population to be “nonessential” experimental because several additional populations exist within the 48 conterminous United States and, as such, its loss would not be likely to appreciably reduce the likelihood of the survival of the species in the wild.

Issue 3—Some commentors continue to question the suitability of the habitat data including those data presented in Appendix 21D, the report on the abundance and distribution of grizzly bear food plant groups in the Salmon-Selway Ecosystem. Other comments questioned why the Recovery Area does not include certain areas in the Bitterroot Ecosystem that contain quality food sources.

Response—The Service believes that the data on bear foods presented in the FEIS are the best data available and demonstrate the sufficiency of the habitat to support a grizzly bear population. Under the Proposed Action Alternative grizzly bears are expected to occupy the areas outside the recovery emphasis area and will be accommodated so they can continue to live in these areas. Accommodate means allowing grizzly bears that move outside the Recovery Area onto public land in the Experimental Population Area to remain undisturbed unless they demonstrate a real and imminent threat to human safety or livestock. However, as recovery proceeds, the Service and the CMC will cooperate to continue to increase the available knowledge and consider new information on the distribution and abundance of bear foods in the Bitterroot Ecosystem; and will use such knowledge to make management decisions to promote recovery. The Service is committed to using the best data available.

Issue 4—Some commentors stated that the implementation of the Proposed Action Alternative would be in conflict with existing Forest management plans and would require the Forest Service to issue a ROD in order to implement the Proposed Action Alternative.

Response—The Service has consulted with the Forest Service on this concern, and the Forest Service does not see any conflicts with existing forest management plans nor does the Forest Service see the need to issue an EIS and a ROD to concur with the Proposed Action Alternative of the Service.

Issue 5—Some commentors suggested that the Scientific Review Panel needs specific timeframes for response and that the governors should not have the ability to appoint two of the three members.

Response—The Service believes that specific timeframes would be unwarranted given the varied nature of considerations in which this panel would be involved, and notes that the process protocol for the Scientific Review Panel will be laid out clearly in the Special Rule. We also believe that it is important for the appointment of members of the Panel to be a shared responsibility in order to have shared ownership of the results of the panel review. The process of the Scientific Review Panel will be an open public process and the Service believes that appointment of inappropriate members of the panel would be contrary to the Special Rule. Also, the Secretary has the responsibility to consider the recommendations of the Scientific Review Panel but is not bound by their recommendations as to the future of the CMC.

Issue 6—Some commentors were concerned that there is no guarantee that any voting members of the CMC would be scientists and felt that the science advisors should be voting members.

Response—Representation on the CMC is expected to include scientists from State and Federal agencies and the CMC is directed to use the best available scientific information in making decisions as per their charter. The Service also believes that having the scientific advisors attending as non-voting members will actually make their input and comments less subject to pressure and influence than scientists from the respective States who are voting members. The CMC process and meetings will be open to the public. If the input of the scientific advisors is not sought by the CMC or if their input is ignored in CMC decisions, then this will be public knowledge and the CMC will have to explain their actions. If the advice of the scientific advisors is ignored to the point that the decisions of the CMC are not leading to recovery, the Secretary's representative will inform the CMC of this and of the possible empaneling of the Scientific Review Panel. This Scientific Review Panel could recommend that the input of the scientific advisors should be heeded and remind the CMC that they are bound to use the best available science. Thus, the Service believes there are sufficient checks and balances in the process to assure that the input of the scientific advisors will be used by the CMC.

Issue 7—One commentor stated that the CMC will only review the plans and policies of agencies, and not projects that may jeopardize the continued existence of an experimental species, and believes this does not meet the standard of the ESA.

Response—Meeting section 7 responsibilities is not a responsibility of the CMC. If a Federal agency determines that its action might jeopardize the continued existence of the species, the agency shall conference with the Service, as per the mandates of section 7(a)(4) and section 10(j)(2)(C) of the ESA.

Issue 8—Some commentors asked where the wording is in section 10 of the ESA that allows delegation of decision-making authority to the CMC.

Response—The authority for creation of the CMC is contained in section 4(f)(2) of the ESA where it states, “The Secretary, in implementing recovery plans, may procure the services of appropriate public and private agencies and institutions, and other qualified persons.” Under this authority, the CMC is tasked with specific responsibilities for recovery by implementing the recovery program in the Bitterroot Ecosystem. Further, section 4(f)(2) of the ESA states that appointments of such groups to develop and implement recovery plans “. . . shall not be subject to the Federal Advisory Committee Act.” Additionally, Federal agencies have authority under case law to task another entity to accomplish certain functions, as long as there are appropriate and adequate legal safeguards.

Issue 9—One commentor asked how corporate landowners will relate to the CMC and how will the CMC be involved in the review of corporate management plans for these lands.

Response—The Governors of each State are able to appoint corporate landowners or employees of such corporations to the CMC. The Service believes that inclusion of corporate landowners in CMC processes is important and valuable, and will encourage the CMC to involve corporate landowners in CMC outreach efforts, invite corporate landowners to CMC meetings, and to include corporate landowners in CMC processes. Private land owners would not lose any of their management authority and the CMC would only make management recommendations to them.

Issue 10—Some commentors indicated the Service needs to implement a proactive outreach and information and education program combined with a sanitation program to better inform the public about grizzly bear management and to increase the safety of humans and bears in the Bitterroot.

Response—The Service has included this as stage two in the implementation of the selected alternative.

Issue 11—Some commentors think the success or failure of the program should be measured over a longer timeframe than a minimum of 10 years as stated in the FEIS.

Response—The Service agrees that for such a long-lived species a 10-year timeframe to measure the success or failure of reintroduction is not sufficient. We have extended the timeframe to a minimum of 20 years, such that it reads, “* * * the success or failure of the program cannot be measured in less than 20 years.”

Issue 12—Some commentors think there is inadequate information and research to indicate there are currently no grizzly bears in the Bitterroot Ecosystem.

Response—The best scientific evidence available indicates there are no grizzly bears in the Experimental Population Area at this time. Published reports by Melquist (Melquist 1985. A preliminary survey to determine the status of grizzly bears in the Clearwater National Forest of Idaho) and by Groves (Groves 1987. A compilation of grizzly bear reports from central and northern Idaho), as well as the March 28, 1998, letter from Wayne Melquist to Christopher Servheen presented in Appendix 23 of the FEIS show no documentation of grizzly bears in the Bitterroot Ecosystem. Ongoing grizzly bear monitoring efforts would continue, and the Service will continue to follow up on promising reports and to cooperate with all efforts to locate grizzly bears in the Bitterroot Ecosystem.

Issue 13—Some commentors were concerned that the Secretary can ignore a notice of the Scientific Review Panel that the CMC is not making decisions that will lead to recovery and decide to continue the CMC rather than disband it.

Response—The ultimate authority to make decisions to implement the ESA is that of the Secretary. Nothing in the Special Rule or the FEIS can subjugate the authority of the Secretary to the Scientific Review Panel. The Scientific Review Panel process and any subsequent decisions of the Secretary will be open to the public and public review.

Issue 14—One comment questions if there is a contradiction between the statement that grizzly bear management decisions will favor bear recovery in the Recovery Area, and the statement that if significant conflicts occur between grizzly bears and livestock in the Experimental Population Area that the conflict could be resolved in favor of livestock.

Response—The ROD has been clarified to state that if significant conflicts occur between grizzly bears and livestock in the Experimental Population Area, outside the Recovery Area, the conflict could be resolved in favor of livestock.

Issue 15—One comment questions if the Cabinet-Yaak and Selkirks would have grizzly “populations” using the definition of a population in the FEIS in Appendix 25.

Response—Both the Cabinet-Yaak and Selkirk Ecosystems have had multiple sightings of females with cubs and with enough offspring to meet the definition of a population used in the FEIS.

Findings and Decision

Having reviewed and considered the FEIS for the recovery of the grizzly bear in the Bitterroot Ecosystem and the public comments thereon, the Service finds as follows:

(1) The requirements of NEPA and its implementing regulations have been satisfied; and

(2) Statutory authority for the Service to implement this project exists; and

(3) The Proposed Action Alternative represents the best balance between the Service's goals and the objectives and the public's concerns identified throughout the public participation process; and

(4) Consistent with the recovery goals, and with social, economic, and other essential considerations from among the reasonable alternatives, the Proposed Action Alternative minimizes or avoids adverse environmental effects to the maximum extent practicable, including effects disclosed in the FEIS; and

(5) Consistent with the social, economic, and other essential considerations to the maximum extent practicable, adverse environmental effects identified in the FEIS will be minimized or avoided.

Having made the above findings, the Service has decided to proceed, as funding permits, with implementation of the Proposed Action Alternative. The decision to implement this alternative is subject to the following conditions that will further minimize or avoid the environmental impacts and public concerns identified during the environmental review process:

(1) The process of grizzly bear recovery in the Bitterroot Ecosystem will be implemented in a staged process with initial formation of the CMC, and ongoing sanitation enhancement and public information efforts;

(2) if the Service receives adequate funding, grizzly bears could be reintroduced in 2002, following formation of the CMC and successful initiation of the sanitation and informational efforts, which will be ongoing as the bears are placed in the area;

(3) bears for reintroduction will be taken from areas more than 10 miles beyond existing recovery zone lines in the Yellowstone and Northern Continental Divide Ecosystems, and from British Columbia and Alaska (nonsalmon-eating bears), as appropriate;

(4) to maximize human safety and bear survival, bears placed in the Bitterroot will have no history of conflict with people or livestock;

(5) all reintroduced bears will be radio-monitored upon placement; and

(6) at least 25 bears will be placed into the area in coordination with the CMC and this number may increase pending scientific considerations of the need to have a larger initial population so as to increase the probability of eventual recovery.

This statement of Findings/ROD will serve as the written facts and conclusions relied upon in reaching this decision.

Dated: November 13, 2000.
Ralph O. Morgenweck,
Regional Director, Denver, Colorado.

Appendix—Errata Sheet for the Final Environmental Impact Statement on Grizzly Bear Recovery in the Bitterroot Ecosystem

The following list includes clarifications or corrections to the FEIS. Many of the items listed were brought forward by the public in their comments on the FEIS. The Service appreciates the input, and this opportunity to correct and improve the FEIS. None of the corrections listed below significantly affect the analyses or conclusions of effect in the FEIS.

1. Table S-2 (page xl), Table 2-1 (page 2-79), Chapter 2 (page 2-57, last paragraph)—The FEIS incorrectly states that for the Service to implement Alternative 4, the principal laws that govern land management (agencies) on Federal lands would have to be changed. This is corrected to state that for the Service to implement Alternative 4, the National Forest Land Management Plans that govern land management by agencies on Federal lands would have to be amended or revised.

2. Pages 2-27 (fourth paragraph, last sentence) and 2-41 (third paragraph)—The FEIS states, “bears found outside the experimental population area boundaries are a fully threatened species, not experimental bears.” This is restated, “In the conterminous United States, a grizzly bear that is outside the experimental population area will be considered as threatened.”

3. Page 2-6, number 3(b); page 2-8, fourth paragraph; page 2-12, second paragraph—The FEIS states, “Two scientific advisors would be appointed by the Secretary to the CMC as non-voting members, to attend all meetings and provide scientific expertise in support of CMC management recommendations.” This is clarified to state, “Two scientific advisors would be appointed by the Secretary to the CMC as non-voting members, to attend all meetings and provide scientific expertise to the CMC.”

4. Page 6-128, second paragraph, last sentence—The FEIS states, “The CMC would be responsible for developing land-use restrictions as necessary for grizzly bear management.” This is corrected to be consistent with other statements in the FEIS that indicate, “The CMC would be responsible for recommending changes in land-use standards and guidelines in the Bitterroot Ecosystem as necessary for grizzly bear management. Decisions on, and implementation of these recommendations is the responsibility of the land and wildlife management agencies.”

5. Page 4-18, third paragraph, first sentence—The FEIS states, “This alternative allows for a citizens management committee to decide if trails, roads, and other areas would be closed to improve recovery efforts for grizzly bears.” This is corrected to state, “This alternative allows for a citizen management committee to make recommendations to land management agencies for road, trail and area closures necessary to improve recovery efforts for grizzly bears.”

6. Page 2-14, second paragraph—The FEIS states, “Idaho Department of Fish and Game and/or the Nez Perce Tribe, Montana Department of Fish, Wildlife, and Parks, and the USDA Forest Service, in coordination with the Service, would exercise day-to-day management responsibility within the experimental population area while implementing the Bitterroot Ecosystem Grizzly Bear Recovery Plan Chapter, the Special Rule, and the policies and plans of the CMC.” This is clarified to state, “Idaho Department of Fish and Game and/or the Nez Perce Tribe, Montana Department of Fish, Wildlife, and Parks, and the USDA Forest Service, in coordination with the Service, would exercise day-to-day management responsibility within the experimental population area while implementing the Bitterroot Ecosystem Grizzly Bear Recovery Plan Chapter, the Special Rule, and considering the recommendations of the CMC.”

7. Page 6-111, Table 6-13—The Management Area Type of “Unroaded/essentially undeveloped” is corrected to “Essentially undeveloped.”

8. The Welcome Creek Wilderness in western Montana was omitted from the list of designated wilderness areas in the Primary Analysis Area. The addition of this designated wilderness area to the Primary Analysis Area increases the total Wilderness acreage by 28,000 acres.

[FR Doc. 00-29531 Filed 11-16-00; 8:45 am]

BILLING CODE 4310-55-P